DEPARTMENT OF THE INTERIOR

Fish and Wildlife Service

50 CFR Part 17

RIN 1018-AG13

Endangered and Threatened Wildlife and Plants; Extension of Public Comment Period and Notice of Availability of Draft Economic Analysis for Proposed Critical Habitat Determination for Wintering Piping Plovers

AGENCY: Fish and Wildlife Service, Interior.

ACTION: Proposed rule; Extension of public comment period and notice of availability of draft economic analysis.

SUMMARY: We, the U.S. Fish and Wildlife Service, announce the availability of the draft economic analysis for the proposed designation of critical habitat for the wintering population of the piping plover (Charadrius melodus). We also provide notice that the public comment period for the proposal is extended to allow all interested parties to submit written comments on the proposal and the draft economic analysis. Comments previously submitted during the comment period need not be resubmitted as they will be incorporated into the public record and will be fully considered in the final determination on the proposal.

DATES: The original comment period is scheduled to close on September 5, 2000. The comment period is hereby extended until October 30, 2000. Comments from all interested parties must be received by the closing date. Any comments that are received after the closing date may not be considered in the final decision on this proposal.

ADDRESSES: Copies of the draft economic analysis are available on the Internet at http//ifw2es.fws.gov/library or by writing to the Field Supervisor, Ecological Services Field Office. c/o TAMU-CC, Campus Box 338, 6300 Ocean Drive, Corpus Christi, TX 78412. All written comments should be submitted to the Field Supervisor at the above address or may be provided by e-mail to winterplovercomments@fws.gov or by facsimile to 361/994-8262. Comments and materials received will be available for public inspection, by appointment, during normal business hours at the above address.

FOR FURTHER INFORMATION CONTACT: Lee Elliott, Wildlife Biologist, at the above address (telephone 361/994-9005).

SUPPLEMENTARY INFORMATION:

Background

The piping plover is a small shorebird, about 17-18 centimeters (8 inches) long and weighing from 43 to 63 grams (1.5 to 2.25 ounces). The species breeds in the northern Great Plains (from Alberta to Ontario, Canada and south to Kansas and Colorado), the Great Lakes region, and the Atlantic Coast (from Newfoundland, Canada to North Carolina). Piping plovers winter on the southern Atlantic and Gulf Coasts from North Carolina to Texas, as well as eastern Mexico and Caribbean islands from Barbados to Cuba and the Bahamas (Haig 1992). Birds from each of the three breeding populations can be found throughout the wintering range. Individuals begin arriving on the wintering grounds in mid-July and can be found on the wintering grounds until mid-May. Populations declined dramatically due to year-round shooting of the species prior to passage of the Migratory Bird Treaty Act. Populations began to rebound following this protection, but loss of habitat and disturbance of nesting birds has led to a more recent decline of the species.

In January of 1986, the piping plover was listed as endangered within the watershed of the Great Lakes, and as threatened in the remainder of its range, under the Endangered Species Act of 1973, as amended (Act). The primary threats to the species were identified as habitat disturbance and destruction, and disturbance of nesting adults and chicks (50 FR 50726). On July 6, 2000, we proposed in the Federal Register approximately 2,691 kilometers (1,672 miles) of shoreline along the South Atlantic and Gulf Coasts as critical habitat for the wintering population of piping plovers (65 FR 41782). The proposal includes shoreline areas in North Carolina, South Carolina, Georgia, Florida, Alabama, Mississippi, Louisiana, and Texas.

Section 4(b)(2) of the Act requires that we designate or revise critical habitat based upon the best scientific and commercial data available and after taking into consideration the economic impact, and any other relevant impact, of specifying any particular area as critical habitat. We may exclude an area from critical habitat if we determine that the benefits of excluding the area outweigh the benefits of including the area as critical habitat, provided such exclusion will not result in the extinction of the species. Consequently, we have prepared a draft economic analysis concerning the proposed critical habitat designation, which is available for review and comment at the above Internet and mailing addresses.

Public Comments Solicited

We solicit comments on the draft economic analysis described in this notice, as well as any other aspect of the proposed designation of critical habitat for the wintering population of the piping plover. Our final determination on the proposed critical habitat will take into consideration comments and any additional information received by the date specified above. All previous comments and information submitted during the comment period need not be resubmitted. The comment period is extended to October 30, 2000. Written comments may be submitted to the Field Supervisor at the above address.

Author: The primary author of this notice is Lee Elliott, U.S. Fish and Wildlife Service (see ADDRESSES).

Authority

The authority for this action is the Endangered Species Act of 1973 (16 U.S.C. 1531 et seq.).

Dated: August 24, 2000.
Nancy M. Kaufman,
Regional Director, Region 2, Fish and Wildlife Service.

[FR Doc. 00-22118 Filed 8-29-00; 8:45 am]

BILLING CODE 4310-55-P